DEPARTMENT OF ENERGY

Federal Energy Regulatory Commission

[Docket No. CP19-489-000]

Notice of Request Under Blanket Authorization; El Paso Natural Gas Company, L.L.C.

Take notice that on July 16, 2019, El Paso Natural Gas Company, L.L.C. (El Paso) Post Office Box 1087, Colorado Springs, Colorado 80944, filed a prior notice request pursuant to sections 157.205, 157.208(b), and 157.210 of the Commission's regulations under the Natural Gas Act for authorization to replace the driver for one of its existing compressors at its existing Waha Compressor Station located in Reeves County, Texas. This project is referred to as El Paso's Waha Compressor Station Project. The total cost of this Project is approximately $16.2 million and the target in-service date for the proposed replacement EMD unit is second quarter of 2020, all as more fully set forth in the application which is on file with the Commission and open to public inspection. The filing may also be viewed on the web at http://www.ferc.gov using the eLibrary link. Enter the docket number excluding the last three digits in the docket number field to access the document. For assistance, contact FERC at FERCOnlineSupport@ferc.gov or call toll-free, (866) 208-3676 or TTY, (202) 502-8659.

Any questions regarding this application should be directed Francisco Tarin, Director, Regulatory, El Paso Natural Gas Company, L.L.C.; P.O. Box 1087, Colorado Springs, Colorado 80944 at (719) 667-7517 or by fax at (719) 520-4697, or David K. Dewey, Vice President Managing Counsel, El Paso Natural Gas Company, L.L.C.; P.O. Box 1087, Colorado Springs, Colorado 80944 at (719) 520-4227 or by fax at (719) 520-4898.

More specifically, El Paso and Enterprise Field Service, LLC (Enterprise) had a shared interest in the existing compressor unit through an operating agreement; where Enterprise was to operate and maintain the existing gas compressor unit. However, in 2017 the compressor unit stopped working due to mechanical issues. Enterprise averred that the unit had exceeded its useful life and decommissioned the unit. Herein, El Paso is proposing to construct and operate one 10,000 horsepower electric motor drive (EMD) unit in place of the lost horsepower and capacity formerly provided by the decommissioned unit operated by Enterprise.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the NGA (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

Pursuant to section 157.9 of the Commission's rules, 18 CFR 157.9, within 90 days of this Notice the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the EA for this proposal. The filing of the EA in the Commission's public record for this proceeding or the issuance of a Notice of Schedule for Environmental Review will serve to notify federal and state agencies of the timing for the completion of all necessary reviews, and the subsequent need to complete all federal authorizations within 90 days of the date of issuance of the Commission staff's EA.

Persons who wish to comment only on the environmental review of this project should submit an original and two copies of their comments to the Secretary of the Commission. Environmental commenter's will be placed on the Commission's environmental mailing list and will be notified of any meetings associated with the Commission's environmental review process. Environmental commenters will not be required to serve copies of filed documents on all other parties. However, the non-party commenters will not receive copies of all documents filed by other parties or issued by the Commission, and will not have the right to seek court review of the Commission's final order.

The Commission strongly encourages electronic filings of comments, protests, and interventions via the internet in lieu of paper. See 18 CFR 385.2001(a)(1)(iii) and the instructions on the Commission's website (www.ferc.gov) under the e-Filing link. Persons unable to file electronically should submit original and 3 copies of the protest or intervention to the Federal Energy Regulatory Commission, 888 First Street NE, Washington, DC 20426.

Dated: July 26, 2019.
Nathaniel J. Davis, Sr.,
Deputy Secretary.

[FR Doc. 2019-16459 Filed 8-1-19; 8:45 am]

BILLING CODE 6717-01-P